POSTAL SERVICE

International Product Change—Global Plus 1C and 2C Negotiated Service Agreements

AGENCY: Postal Service™.

ACTION: Notice.

SUMMARY: The Postal Service hereby gives notice of its filing a request with the Postal Regulatory Commission to add Global Plus 1C and 2C Negotiated Service Agreements to the Competitive Products List.

DATES: January 18, 2012.

FOR FURTHER INFORMATION CONTACT: Margaret M. Falwell, (202) 268-2576.

SUPPLEMENTARY INFORMATION: The United States Postal Service® hereby gives notice that, pursuant to 39 U.S.C. 3642, on December 30, 2011, and January 4, 2012, it filed with the Postal Regulatory Commission, Requests of United States Postal Service to Add Global Plus 1C and 2C Negotiated Service Agreements to the Competitive Products List, and Notices of Filing Two Functionally Equivalent Agreements and Applications for Non-Public Treatment of Materials Filed Under Seal for each filing. Documents are available at http://www.prc.gov, Docket Nos. MC2012-5, MC2012-6, CP2012-10, CP2012-11, CP2012-12 and CP2012-13.

B. J. Meadows III,
Attorney, Legal Strategy.

[FR Doc. 2012-766 Filed 1-17-12; 8:45 am]

BILLING CODE 7710-12-P